DEPARTMENT OF JUSTICE

Immigration Collection Activities: Comment Request

ACTION: 60-day notice of information collection under review; INS case status service online.

The Department of Justice, Immigration and Naturalization Service has submitted the following information collection request for review and clearance in accordance with the Paperwork Reduction Act of 1995, Pub. L. 104-13 and the Privacy Act of 1974 as amended, and Pub. L. 93-589.

INS now provides case status to individuals and their representatives by request through an INS toll phone line or walk-in at INS local offices. INS proposes to implement case status online service that will provide case status of an immigration or naturalization action to customers (and their representatives) via an interactive voice response system on a toll free, 1-800 line or a web-based application. Individuals or their representatives will look up status on the Internet by typing in the receipt number of the submitted form or through interaction on a toll-free telephone line. For individuals or organizations such as law firms and non-profit organizations that represent many individuals and their respective cases, the INS proposes to implement a capability for each requestor to develop their own log of pending cases on the web. The log will include multiple receipt numbers that correspond to individuals' cases. A requestor will have access only to a non-attributable case status receipt number.

INS will provide an option for the requestor to receive email notification of status. The requestor would query the system and, if desired, request email notification of further status changes. This option reduces the number of times that a customer must access the system for case status.

The proposed information collection is published to obtain comments from the public and affected agencies. Comments are encouraged and will be accepted for sixty days until October 15, 2002.

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic mechanical, or other technological collection techniques or other forms of information technology, e.g., permitting electronic submission of responses.

Overview of this information collection:

(1) Type of Information Collection: New information collection.

(2) Title of the Form/Collection: INS Case Status Service Online.

(3) Agency form number, if any, and the applicable component of the Department of Justice sponsoring the collection: No Agency Form No. (File No. OMB-33). National Customer Service Center, Immigration and Naturalization Service.

(4) Affected public who will be asked or required to respond, as well as a brief abstract: Primary: Individual or households. The INS proposes to implement an electronic website as a part of the Customer Relationship Interface System (CRIS) initiative. The system will allow individuals or their representatives to request case status. The INS proposes to permit the requestor to look up status by entering on a website the receipt number of the submitted action.

(5) An estimate of the total number of respondents and the amount of time estimated for an average respondent to respond: 1,000,000 responses at 4.5 minutes (0.75) per response.

(6) An estiamte of the total public burden (in hours) associated with the collection: 75,000 annual burden hours.

If you have additional comments, suggestions, or need a copy of the proposed information collection instrument with instructions, or additional information, please contact Richard A. Sloan 202-514-3291, Director, Regulations and Forms Services Division, Immigration and Naturalization Service, U.S. Department of Justice, Room 4034, 425 I Street, NW., Washington, DC 20536. Additionally, comments and/or suggestions regarding the item(s) contained in this notice, especially regarding the estimated public burden and associated response time may also be directed to Mr. Richard A. Sloan.

If additional information is required contact: Mr. Robert B. Briggs, Clearance Officer, United States Department of Justice, Information Management and Security Staff, Justice Management Division, Patrick Henry Building, 601 D Street, NW., Suite 1600, Washington, DC 20530.

Dated: August 6, 2002.
Richard A. Sloan,
Department Clearance Officer, United States Department of Justice, Immigration and Naturalization Service.

[FR Doc. 02-20476 Filed 8-12-02; 8:45 am]

BILLING CODE 4410-10-M